DEPARTMENT OF THE TREASURY

Submission for OMB Review; Comment Request

August 25, 2014.

The Department of the Treasury will submit the following information collection requests to the Office of Management and Budget (OMB) for review and clearance in accordance with the Paperwork Reduction Act of 1995, Public Law 104-13, on or after the date of publication of this notice.

DATES: Comments should be received on or before September 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission may be obtained by emailing PRA@treasury.gov, calling (202) 622-1295, or viewing the entire information collection request at www.reginfo.gov.

Community Development Financial Institutions (CDFI) Fund

OMB Number: 1559-0042.

Type of Review: Extension of a currently approved collection.

Title: Capacity Building Initiative.

Abstract: Pursuant to the Community Development Banking and Financial Institutions Act of 1994 (the Act), as amended (12 U.S.C. 4701 et seq.), the CDFI Fund provides training and technical assistance to Community Development Financial Institutions (CDFIs) and similar entities in order to enhance their ability to make loans and investments and provide services for the benefit of designated investment areas and targeted populations. The information collected will be used to identify specific topics for training and technical assistance and develop course content which is tailored to the needs and capacity levels of recipients. The requested information is necessary to support effective use of Federal resources.

Affected Public: Businesses or other for-profits; not-for-profit institutions.

Estimated Annual Burden Hours: 9,000.

Brenda Simms,
Treasury PRA Clearance Officer.

[FR Doc. 2014-20512 Filed 8-27-14; 8:45 am]

BILLING CODE 4810-70-P